TENNESSEE VALLEY AUTHORITY

Sunshine Act Meetings

TIME AND DATE: 9:00 a.m. CT on August 22, 2024.

PLACE: Marriott Shoals Conference Center, 10 Hightower Place, Florence, Alabama.

STATUS: Open.

MATTERS TO BE CONSIDERED:

Meeting No. 24-03

The TVA Board of Directors will hold a public meeting on August 22 at the Marriott Shoals Conference Center, 10 Hightower Place, Florence, Alabama. The meeting will be called to order at 9:00 a.m. CT to consider the agenda items listed below. TVA management will answer questions from the news media following the Board meeting.

On August 21, at the Marriott Shoals Conference Center, the public may comment on any agenda item or subject at a Board-hosted public listening session which begins at 2:00 p.m. CT and will last until 4:00 p.m. Preregistration is required to address the Board.

Agenda

1. Approval of Minutes of the May 9, 2024 Board Meeting

2. Governance Items

A. TVA's Strategic Elements

3. Report of the Operations and Nuclear Oversight Committee

A. New Nuclear Program Funding Limit Increase

4. Report of the Finance, Rates, and Portfolio Committee

A. Rate Adjustment—5.25% Rate Increase Beginning October 2024

B. FY25 Financial Plan and Budget

5. Report of the People and Governance Committee

A. TVA Employee Compensation Board Practice Amendments

6. Report of the External Stakeholders and Regulation Committee

7. Report of the Audit, Risk, and Cybersecurity Committee

A. FY25 External Auditor Selection

8. Information Items

A. Committee Assignments

B. Arrangements with Industrial Customers

C. Confidential Settlement

9. Report from President and CEO

CONTACT PERSON FOR MORE INFORMATION: For more information: Please call TVA Media Relations at (865) 632-6000, Knoxville, Tennessee. Anyone who wishes to comment on any of the agenda in writing may send their comments to: TVA Board of Directors, Board Agenda Comments, 400 West Summit Hill Drive, Knoxville, Tennessee 37902.

Dated: August 15, 2024.
Edward C. Meade,
Agency Liaison.

[FR Doc. 2024-19141 Filed 8-21-24; 4:15 pm]

BILLING CODE 8120-08-P